DEPARTMENT OF TRANSPORTATION

Office of the Secretary

Privacy Act of 1974: System of Records

AGENCY: Office of the Secretary, DOT.

ACTION: Notice to establish a system of records.

SUMMARY: DOT intends to establish a system of records under the Privacy Act of 1974.

EFFECTIVE DATE: July 31, 2006. If no comments are received, the proposal will become effective on the above date. If comments are received, the comments will be considered and, where adopted, the documents will be republished with changes.

FOR FURTHER INFORMATION CONTACT: Kara Spooner, Department of Transportation, Office of the Secretary, 400 7th Street, SW., Washington, DC 20590, (202) 366-1965 (telephone), (202) 366-7373 (fax), kara.spooner@dot.gov (Internet address).

SUPPLEMENTARY INFORMATION: The Department of Transportation system of records notice subject to the Privacy Act of 1974 (5 U.S.C. 552a), as amended, has been published in the Federal Register and is available from the above mentioned address.

DOT/ALL 16

System name:

Mailing Management Systems.

Security classification:

Unclassified, non-sensitive.

System location:

Records are maintained at the Department of Transportation (DOT) in Washington, DC, the Volpe National Transportation Systems Center in Cambridge, Massachusetts, the Transportation Safety Institute in Oklahoma City, Oklahoma and the Saint Lawrence Seaway Development Corporation in Massena, New York.

Categories of individuals covered by the system:

Members of the public and Department of Transportation and other government agency employees who have requested to receive one-time or periodic mailings from DOT.

Categories of records in the system:

Individual name, contact information, title and organization, if applicable, details regarding the requested publication and payment information for those publications for sale.

Authority for maintenance of the system:

5 U.S.C. 301; 49 U.S.C. 322.

Purpose(s):

To provide individuals and other government agencies, at their request, with mailed copies of publicly available information about DOT and its operating administrations' programs.

Routine uses of records maintained in the system, including categories of users and the purposes of such uses:

(1) The address portion of the records is compared against a master address list of the United States Postal Service to verify valid addresses; (2) to printing services that are contracted by DOT to print and mail the reports and other publications.

Disclosure to consumer reporting agencies:

None.

Policies and practices for storing, retrieving, accessing, retaining, and disposing of records in the system:

Storage:

Records are stored manually in file folders and electronically in mailing management system applications and databases.

Retrievability:

Records are retrievable by customer number, customer name, customer address, mailing list title and publication ID number.

Safeguards:

Access to the system is limited to individuals responsible for distributing mailings of publications and the system administrator through the use of user IDs and passwords. Physical access to the system and manual records is restricted through security guards and access badges to enter the facility where equipment and records are located. Records received in hard copy (e.g., requests submitted by letter or fax) are kept in files stored in locked file cabinets, with access limited to those who conduct the distribution or administer the system.

Retention and disposal:

System records, with the exception of those at the VOLPE center, are retained until either the request has been met, the individual requests removal from the system, or the individual's address cannot be verified as valid by the United States Postal Service, depending on the database. Payment information associated with publication requests for which there is a charge is retained for 30 days or less. Records maintained at the Volpe center are retained for up to five years.

System manager(s) and address:

Office of the Secretary of Transportation Information Services, Department of Transportation, 400 Seventh Street, SW., Washington, DC 20590; Federal Highway Administration Office of Information Management, 400 Seventh Street, SW., Washington, DC 20590; Director, Office of Administration, Volpe National Transportation Systems Center, 55 Broadway, Cambridge, MA 02142; Director, Transportation Safety Institute, 6500 South MacArthur Blvd., Oklahoma City, Oklahoma 73169; Director, Office of Administration, Saint Lawrence Seaway Development Corporation at 180 Andrews Street, Massena, New York 13662-0520.

Notification procedure:

Individuals seeking to determine whether their information is contained in this system should address written inquiries to the Department of Transportation Freedom Of Information Act and Privacy Act Office at 400 Seventh Street, SW., Washington DC 20590. Requests should include name, address and telephone number and describe the records you seek.

Record access procedures:

Same as “Notification procedure.”

Contesting record procedures:

Same as “System Manager. “

Record source categories:

Individuals provide their name and mailing address directly as part of the request to obtain copies of publications. These requests are accepted by the Department of Transportation, its operating administrations, and its contractors by telephone, fax, public Web site, postal mail, and e-mail.

Exemptions claimed for the system:

None.

Dated: June 13, 2006.
Kara Spooner,
Departmental Privacy Officer.

[FR Doc. E6-9581 Filed 6-16-06; 8:45 am]

BILLING CODE 4910-9X-P